Title 3—

The President

Proclamation 9764 of June 8, 2018

Flag Day and National Flag Week, 2018

By the President of the United States of America

A Proclamation

More than two centuries ago, on June 14, 1777, the Second Continental Congress formally adopted the Stars and Stripes as the official flag of our new Republic. Through the many triumphs and trials of our Nation, our flag has reflected our heritage of liberty and embodied the American virtues of bravery, justice, and loyalty. Each year, we celebrate Flag Day and National Flag Week to honor our timeless national emblem.

Our flag symbolizes our solemn pride and eternal gratitude to our service members, who willingly raise their hand in front of our Nation's colors and take an oath to support and defend the Constitution of the United States. Our flag also serves as a final acknowledgement of our country's gratitude to the families of those soldiers, sailors, airmen, marines, and coastguardsmen who have given their last full measure of devotion to our country. After the echo of the last rifle volley and the final notes of “Taps” fade away, the flag is carefully folded and presented to the grieving families of our fallen heroes to serve as a source of comfort and strength in times of immense sorrow.

Our majestic flag flies during our country's most memorable occasions. In the early morning of May 10 of this year, a large American flag undulated in the breeze over the homecoming of three Americans released from captivity in North Korea. It also presided during our astronauts' many missions exploring the moon's surface, the heroic triumph of the Marines at the battle of Iwo Jima, and the recovery operations at New York City's ground zero and the Pentagon immediately following the attacks of September 11, 2001. Our country's colors—bold and brilliant—symbolize to the world those values we hold sacred, freedom and liberty, and our hope for a better world.

Today, we celebrate the ideals of our country's founding, which are represented so proudly by the broad stripes and bright stars—that all men are created equal and endowed by their Creator with unalienable rights, including life, liberty, and the pursuit of happiness. May we never forget the tremendous sacrifices required to secure and maintain our freedom. Let us proudly stand and remember our founding principles and our country's ever continuing march to achieve a more perfect Union. As we raise our flag, let us resolve always to cherish it with reverence and eternal gratitude so that the red, white, and blue may forever wave from sea to shining sea.

NOW, THEREFORE, I, DONALD J. TRUMP, President of the United States of America, do hereby proclaim June 14, 2018, as Flag Day, and the week starting June 10, 2018, as National Flag Week. I direct the appropriate officials to display the flag on all Federal Government buildings during this week, and I urge all Americans to observe Flag Day and National Flag Week by displaying the flag. I also encourage the people of the United States to observe with pride and all due ceremony those days from Flag Day through Independence Day, set aside by the Congress (89 Stat. 211), as a time to honor America, to celebrate our heritage in public gatherings and activities, and to publicly recite the Pledge of Allegiance to the Flag of the United States of America.

IN WITNESS WHEREOF, I have hereunto set my hand this eighth day of June, in the year of our Lord two thousand eighteen, and of the Independence of the United States of America the two hundred and forty-second.

[FR Doc. 2018-12963

Filed 6-13-18; 11:15 am]

Billing code 3295-F8-P